DEPARTMENT OF ENERGY

Federal Energy Regulatory Commission

Combined Notice of Filings #2

Take notice that the Commission received the following electric rate filings:

Docket Numbers: ER17-274-003.

Applicants: GenOn Energy Management, LLC.

Description: Report Filing: Refund Report—Informational Filing (Docket No. EL16-118-000) to be effective N/A.

Filed Date: 1/5/18.

Accession Number: 20180105-5094.

Comments Due: 5 p.m. ET 1/26/18.

Docket Numbers: ER18-606-000.

Applicants: AES Ohio Generation, LLC.

Description: § 205(d) Rate Filing: AES Ohio Reactive Power Filing [EC18-41-000] to be effective 12/31/9998.

Filed Date: 1/5/18.

Accession Number: 20180105-5092.

Comments Due: 5 p.m. ET 1/26/18.

Docket Numbers: ER18-607-000.

Applicants: PacifiCorp.

Description: § 205(d) Rate Filing: BPA Construction Agmt ? UIUC Myrtle Creek to be effective 12/15/2017.

Filed Date: 1/5/18.

Accession Number: 20180105-5099.

Comments Due: 5 p.m. ET 1/26/18.

Docket Numbers: ER18-608-000.

Applicants: PJM Interconnection, L.L.C.

Description: Compliance filing: Compliance filing per 12/15/2017 order in Docket No. EL17-90-000 to be effective 12/31/2017.

Filed Date: 1/5/18.

Accession Number: 20180105-5102.

Comments Due: 5 p.m. ET 1/26/18.

Docket Numbers: ER18-609-000.

Applicants: Louisville Gas and Electric Company.

Description: § 205(d) Rate Filing: Att G Revision SERC EOP-011-1 Guidance to be effective 1/6/2018.

Filed Date: 1/5/18.

Accession Number: 20180105-5124.

Comments Due: 5 p.m. ET 1/26/18.

Docket Numbers: ER18-610-000.

Applicants: Louisville Gas and Electric Company.

Description: § 205(d) Rate Filing: Att C ATC Methodology Revision to be effective 3/6/2018.

Filed Date: 1/5/18.

Accession Number: 20180105-5134.

Comments Due: 5 p.m. ET 1/26/18.

Docket Numbers: ER18-611-000.

Applicants: ITC Midwest LLC.

Description: § 205(d) Rate Filing: Filing of a Master JUA for Distribution Underbuild with Grundy County REC to be effective 3/6/2018.

Filed Date: 1/5/18.

Accession Number: 20180105-5135.

Comments Due: 5 p.m. ET 1/26/18.

Docket Numbers: ER18-612-000.

Applicants: ITC Midwest LLC.

Description: § 205(d) Rate Filing: Cancellation of Joint Use Agreements with Grundy REC to be effective 3/6/2018.

Filed Date: 1/5/18.

Accession Number: 20180105-5163.

Comments Due: 5 p.m. ET 1/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2018.
Nathaniel J. Davis, Sr.,
Deputy Secretary.

[FR Doc. 2018-00325 Filed 1-10-18; 8:45 am]

BILLING CODE 6717-01-P